DEPARTMENT OF LABOR

Employment and Training Administration

[TA-W-91,030]

Mitsubishi Motors North America, Inc.; A Subsidiary of Mitsubishi Motors Corporation; Manufacturing Division; Including On-Site Leased Workers From ETG, HRU Technical Resources, Kelly Temporary Services, Randstad Technologies (Formerly Technisource), STL Commercial Staffing (Formerly Firstaff), and MPW Industrial Services; Normal, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on November 13, 2015, applicable to workers of Mitsubishi Motors North America, Inc., a subsidiary of Mitsubishi Motors Corporation, Manufacturing Division, Normal, Illinois. The Department's notice of determination was published in the Federal Register on January 11, 2016 (81 FR 1227).

At the request of MPW industrial Services, the Department reviewed the certification for workers of the subject firm. New information from the company official shows that workers leased from MPW Industrial Services were employed on-site at the Normal, Illinois location of Mitsubishi Motors North America, Inc., a subsidiary of Mitsubishi Motors Corporation, Manufacturing Division.

The Department has determined that these workers were sufficiently under the operational control of Mitsubishi Motors North America, Inc., a subsidiary of Mitsubishi Motors Corporation, Manufacturing Division, Normal, Illinois to be considered leased workers.

The intent of the Department's certification is to include all workers of the subject firm who were adversely affected by a shift in production to a foreign country of passenger automobiles or articles like or directly competitive.

Based on these findings, the Department is amending this certification to include workers leased from MPW Industrial Services working on-site at the Normal, Illinois location of the subject firm.

The amended notice applicable to TA-W-91,030 is hereby issued as follows:

All workers from Mitsubishi Motors North America, Inc., a subsidiary of Mitsubishi Motors Corporation, Manufacturing Division, including on-site leased workers from ETG, HRU Technical Resources, Kelly Temporary Services, Randstad Technologies(formerly Technisource), STL Commercial Staffing (formerly Firstaff), and MPW Industrial Services, Normal, Illinois who became totally or partially separated from employment on or after October 6, 2014 through November 13, 2017, and all workers in the group threatened with total or partial separation from employment on date of certification through two years from the date of certification, are eligible to apply for adjustment assistance under Chapter 2 of Title II of the Trade Act of 1974, as amended.

Signed in Washington, DC, this 28th day of February, 2016.
Hope D. Kinglock,
Certifying Officer, Office of Trade Adjustment Assistance.

[FR Doc. 2016-08728 Filed 4-14-16; 8:45 am]

BILLING CODE P